DEPARTMENT OF TRANSPORTATION

Federal Aviation Administration

14 CFR Part 39

[Docket No. FAA-2025-0758; Project Identifier MCAI-2024-00651-T; Amendment 39-23192; AD 2025-23-09]

RIN 2120-AA64

Airworthiness Directives; Airbus SAS Airplanes

AGENCY: Federal Aviation Administration (FAA), DOT.

ACTION: Final rule.

SUMMARY: The FAA is superseding Airworthiness Directive (AD) 2022-15-05, which applied to certain Airbus SAS Model A318 series airplanes; Model A319-111, -112, -113, -114, -115, -131, -132, and -133 airplanes; Model A320-211, -212, -214, -216, -231, -232, and -233 airplanes; and Model A321-111, -112, -131, -211, -212, -213, -231, and -232 airplanes. AD 2022-15-05 required repetitive high frequency eddy current (HFEC) inspections for cracks on the web horizontal flange and inner cap, and applicable corrective actions. Since the FAA issued AD 2022-15-05, additional cracks have been found at the door stop fitting number 1 holes at frame (FR) 68, after disassembly of the door stop fitting as part of the inspections required by AD 2022-15-05. This AD continues to require the actions in AD 2022-15-05, but with reduced compliances times for some inspections, and requires an additional inspection at door stop fitting number 1. The FAA is issuing this AD to address the unsafe condition on these products.

DATES: This AD is effective January 13, 2026.

The Director of the Federal Register approved the incorporation by reference of a certain publication listed in this AD as of January 13, 2026.

ADDRESSES:

AD Docket: You may examine the AD docket at regulations.gov under Docket No. FAA-2025-0758; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For European Union Aviation Safety Agency (EASA) material identified in this AD, contact EASA, Konrad-Adenauer-Ufer 3, 50668 Cologne, Germany; telephone +49 221 8999 000; email ADs@easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2025-0758.

FOR FURTHER INFORMATION CONTACT: Tim Dowling, Aviation Safety Engineer, FAA, 2200 South 216th St., Des Moines, WA 98198; phone: 206-231-3667; email: timothy.p.dowling@faa.gov.

SUPPLEMENTARY INFORMATION:

Background

The FAA issued a notice of proposed rulemaking (NPRM) to amend 14 CFR part 39 to supersede AD 2022-15-05, Amendment 39-22125 (87 FR 45013, July 27, 2022) (AD 2022-15-05). AD 2022-15-05 applied to all Airbus SAS Model A318-111, A318-112, A318-121, A318-122, A319-111, A319-112, A319-113, A319-114, A319-115, A319-131, A319-132, A319-133, A320-211, A320-212, A320-214, A320-216, A320-231, A320-232, A320-233, A321-111, A321-112, A321-131, A321-211, A321-212, A321-213, A321-231, and A321-232 airplanes, except those airplanes with certain modifications installed that convert the airplane to a corporate jet. AD 2022-15-05 required repetitive HFEC inspections for cracks on the web horizontal flange and inner cap and applicable corrective actions, in accordance with EASA AD 2022-0030, dated February 25, 2022 (EASA AD 2022-0030) which specifies using the original or later-approved revisions of Airbus Service Bulletin A320-53-1491. The FAA issued AD 2022-15-05 to address a report that cracks were found on the web horizontal flange and inner cap on FR 68, left-hand (LH) and right-hand (RH) sides, at stringer (STGR) 22, which could result in reduced structural integrity of the fuselage.

The NPRM was published in the Federal Register on May 16, 2025 (90 FR 20952). The NPRM was prompted by AD 2024-0210, dated October 29, 2024, issued by EASA, which is the Technical Agent for the Member States of the European Union (EASA AD 2024-0210) (also referred to as the MCAI). The MCAI states that after EASA AD 2022-0030 was issued, cracks have been found at the door stop fitting number 1 holes at FR 68, after the door stop fitting disassembly as part of the inspections in Airbus Service Bulletin A320-53-1491 Revision 1. Therefore, Airbus issued revision 2 of its service bulletin to include an additional inspection of the FR 68 door stop fitting number 1 holes with a larger inspection area, and an additional HFEC inspection on FR68 around the door stop fitting number 1 nuts. Some compliance times have been reduced and the procedures in the service bulletin have been updated.

In the NPRM, the FAA proposed to continue to require the actions in AD 2022-15-05, but with reduced compliances times for some inspections, and proposed to require an additional inspection at door stop fitting number 1, as specified in EASA AD 2024-0210. The FAA is issuing this AD to address cracks on the door stop 1, web horizontal flange and inner cap on FR 68, LH and RH sides, at STGR 22, which could result in reduced structural integrity of the fuselage.

You may examine the MCAI in the AD docket at regulations.gov under Docket No. FAA-2025-0758.

Discussion of Final Airworthiness Directive

Comments

The FAA received a comment from Delta Air Lines (Delta). The following presents the comment and the FAA's response.

Request for an Exception To Address Outdated Material Number Reference

Delta requested that the FAA modify paragraph (h) of the proposed AD to allow use of a compound having consumable material list (CML) code 12ADB1 instead of the compound having CML code 12ABC1 that is specified in the service information referenced by EASA AD 2024-0210. Delta explained that CML code 12ABC1 references a Type I corrosion inhibiting compound (CIC) which is a water dispersing compound used in the old temporary protection system (TPS) configuration which was phased out in the early 2000s. Delta added that CML code 12ABC1 was replaced by CML code 12ADB1, which is a Type III CIC having both water displacing and corrosion protection properties, and is prescribed by Delta's corrosion prevention control program (CPCP) and is also identified in section 51-23-12 of the A320 Structural Repair Manual section as the replacement for CML code 12ABC1. Delta stated that it requested and received confirmation from Airbus to use CML code 12ADB1 in lieu of CML code 12ABC1 and quoted Airbus as saying “it is acceptable to locally apply CML code 12ADB1 in lieu of 12ABC1 for the embodiment of SB 53-1491 for the re-protection of the inspection areas on Web Horizontal Flange Radii. . . .”

The FAA agrees to add an exception to paragraph (h) of this AD to allow the use of CML code 12ADB1 in lieu of CML code 12ABC1.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, and any other changes described previously, this AD is adopted as proposed in the NPRM. None of the changes will increase the economic burden on any operator.

Material Incorporated by Reference Under 1 CFR Part 51

The FAA reviewed EASA AD 2024-0210 which specifies procedures for repetitive inspections of certain areas of the fuselage and taking corrective actions if there are cracks or discrepancies by following the manufacturer's service information. EASA AD 2024-0210 also specifies reporting all inspection findings to Airbus. Specifically, the inspections are high frequency eddy current inspections of the frame horizontal flange radii, inner cap fillet radius, the door stop 1 fasteners, and the frame inner cap corner at FR 68. The instructions for the inspections depend on whether a repair part has been installed. On-condition corrective actions include additional inspections for cracking, inspections to determine if a certain modification or repair was done, and repair of cracking at the web horizontal flange. This material is reasonably available because the interested parties have access to it through their normal course of business or by the means identified in the ADDRESSES section.

Costs of Compliance

The FAA estimates that this AD affects 1,924 airplanes of U.S. registry. The FAA estimates the following costs to comply with this AD:

Estimated Costs for Required Actions
Action | Labor cost | Parts cost | Cost per product | Cost on U.S. operators
Inspection for repair part | 1 work-hour × $85 per hour = $85 | $0 | $85 | $163,540.
High frequency eddy current inspection | 27 work-hours × $85 per hour = $2,295 per inspection cycle | 0 | $2,295 per inspection cycle | $4,415,580 per inspection cycle.

The FAA estimates the following costs to do any on-condition inspections that would be required based on the results of the high frequency eddy current inspections. The FAA has no way of determining the number of airplanes that might need these on-condition inspections:

Estimated Costs of On-Condition Actions
Action | Labor cost | Parts cost | Cost per product
On-condition inspections | Up to 30 work-hours × $85 per hour = $2,550 | $0 | Up to $2,550.

The extent of cracking and other conditions found during the inspections could vary significantly from airplane to airplane. The FAA has no way of determining which conditions may be found on each airplane, the cost to correct or repair each airplane, or the number of airplanes that may require repair.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2022-15-05, Amendment 39-22125 (87 FR 45013, July 27, 2022); and

b. Adding the following new AD:

2025-23-09 Airbus SAS: Amendment 39-23192; Docket No. FAA-2025-0758; Project Identifier MCAI-2024-00651-T.

(a) Effective Date

This airworthiness directive (AD) is effective January 13, 2026.

(b) Affected ADs

This AD replaces AD 2022-15-05, Amendment 39-22125 (87 FR 45013, July 27, 2022) (AD 2022-15-05).

(c) Applicability

This AD applies to Airbus SAS Model airplanes identified in paragraphs (c)(1) through (4) of this AD, certificated in any category, as identified in European Union Aviation Safety Agency (EASA) AD 2024-0210, dated October 29, 2024 (EASA AD 2024-0210).

(1) Model A318-111, -112, -121, and -122 airplanes.

(2) Model A319-111, -112, -113, -114, -115, -131, -132, and -133 airplanes.

(3) Model A320-211, -212, -214, -216, -231, -232, and -233 airplanes.

(4) Model A321-111, -112, -131, -211, -212, -213, -231, and -232 airplanes.

(d) Subject

Air Transport Association (ATA) of America Code 53, Fuselage.

(e) Unsafe Condition

This AD was prompted by a report that cracks were found on the web horizontal flange and inner cap on frame (FR) 68, left-hand (LH) and right-hand (RH) sides, at stringer (STGR) 22, and at the door stop fitting number 1 holes at FR 68. The FAA is issuing this AD to address the cracks on the door stop 1, web horizontal flange and inner cap on FR 68, LH and RH sides, at STGR 22. The unsafe condition, if not addressed, could result in reduced structural integrity of the fuselage.

(f) Compliance

Comply with this AD within the compliance times specified, unless already done.

(g) Requirements

Except as specified in paragraphs (h) and (i) of this AD: Comply with all required actions and compliance times specified in, and in accordance with, EASA AD 2024-0210.

(h) Exceptions to EASA AD 2024-0210

(1) Where EASA AD 2024-0210 refers to “22 November 2021 [the effective date of EASA AD 2021-0242]”, this AD requires using August 31, 2022 (the effective date of AD 2022-15-05).

(2) Where EASA AD 2024-0210 refers to its effective date, this AD requires using the effective date of this AD.

(3) Where paragraph (1) of EASA AD 2024-0210 refers to “the SDI”, this AD requires replacing that text with “the applicable inspections”.

(4) This AD does not adopt the “Remarks” section of EASA AD 2024-0210.

(5) This AD does not adopt paragraphs (2) and (3) of EASA AD 2024-0210.

(6) Where paragraph (4) of EASA AD 2024-0210 states “discrepancies”, this AD requires replacing that word with “conditions”.

(7) Where paragraph (4) of EASA AD 2024-0210 states “within the compliance time specified therein”, this AD requires replacing that text with “before further flight”.

(8) Where paragraph (6) of EASA AD 2024-0210 specifies “the instructions provided by Airbus”, for this AD, those instructions must be approved by the FAA, EASA, or Airbus SAS's EASA Design Organization Approval (DOA). If approved by the DOA, the approval must include the DOA-authorized signature.

(9) Where the material referenced in EASA 2024-0210 states to use consumable material list (CML) code 12ABC1, this AD also allows using CML code 12ADB1 instead.

(i) No Reporting Requirement

Although paragraph (7) of and the material referenced in EASA AD 2024-0210 specify to submit certain information to the manufacturer, this AD does not include that requirement.

(j) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the Continued Operational Safety Branch, send it to the attention of the person identified in paragraph (k) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, Continued Operational Safety Branch, FAA; or EASA; or Airbus SAS's EASA Design Organization Approval (DOA). If approved by the DOA, the approval must include the DOA-authorized signature.

(3) Required for Compliance (RC): Except as required by paragraphs (h), (i), and (j)(2) of this AD, if any material contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Additional Information

For more information about this AD, contact Tim Dowling, Aviation Safety Engineer, FAA, 2200 South 216th St., Des Moines, WA 98198; phone: 206-231-3667; email: timothy.p.dowling@faa.gov.

(l) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2024-0210, dated October 29, 2024.

(ii) [Reserved]

(3) For EASA material identified in this AD, contact EASA, Konrad-Adenauer-Ufer 3, 50668 Cologne, Germany; telephone +49 221 8999 000; email ADs@easa.europa.eu; website easa.europa.eu. You may find this material on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations, or email fr.inspection@nara.gov.

Issued on November 12, 2025.
Peter A. White,
Deputy Director, Integrated Certificate Management Division, Aircraft Certification Service.

[FR Doc. 2025-22348 Filed 12-8-25; 8:45 am]

BILLING CODE 4910-13-P